FEDERAL ELECTION COMMISSION

Sunshine Act Meeting

AGENCY: Federal Election Commission.

DATE and TIME: Thursday, April 27, 2017 at 10:00 a.m.

PLACE: 999 E Street NW., Washington, DC (Ninth Floor).

STATUS: This meeting will be open to the public.

ITEMS TO BE DISCUSSED:

REG 2014-02: Draft Notice of Proposed Rulemaking on Independent Expenditures by Authorized Committees; Reporting Multistate Independent Expenditures and Electioneering Communications.

REG 2014-10: Implementing the Consolidated and Further Continuing Appropriations Act, 2015.

REG 2016-03: Political Party Rules.

Management and Administrative Matters

Individuals who plan to attend and require special assistance, such as sign language interpretation or other reasonable accommodations, should contact Dayna C. Brown, Secretary and Clerk, at (202) 694-1040, at least 72 hours prior to the meeting date.

PERSON TO CONTACT FOR INFORMATION: Judith Ingram, Press Officer, Telephone: (202) 694-1220.

Dayna C. Brown,
Secretary and Clerk of the Commission.

[FR Doc. 2017-08372 Filed 4-20-17; 4:15 pm]

BILLING CODE 6715-01-P